DEPARTMENT OF COMMERCE

Census Bureau

Proposed Information Collection; Comment Request; Longitudinal Employer-Household Dynamics (LEHD)

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995.

DATES: To ensure consideration, written comments must be submitted on or before February 6, 2017.

ADDRESSES: Direct all written comments to Jennifer Jessup, Departmental Paperwork Clearance Officer, Department of Commerce, Room 6616, 14th and Constitution Avenue NW., Washington, DC 20230 (or via the Internet at jjessup@doc.gov).

FOR FURTHER INFORMATION CONTACT: Requests for additional information or copies of the information collection instrument(s) and instructions should be directed to Robert Sienkiewicz; robert.sienkiewicz@census.gov; phone: 301-763-1234.

SUPPLEMENTARY INFORMATION:

I. Abstract

A 21st century statistical system must provide information about the dynamic economy quickly, using data assets efficiently while minimizing the burden of collecting and providing data and fully preserving confidentiality. The Census Bureau's Longitudinal Employer-Household Dynamics (LEHD) program has demonstrated the power and usefulness of linking multiple business and employee data sets with state-of-the-art confidentiality protections to build a longitudinal national frame of jobs.

This program supports the Department of Commerce plan to improve American competitiveness and measures of innovation. It provides federal, state, and local policymakers and planners, businesses, private sector decision makers, and Congress with comprehensive and timely national, state, and local information on the dynamic nature of employers and employees.

The LEHD program significantly reduces the overall effort for the generation of its quarterly data product by:

• Leveraging exiting federal administrative and state data

• Avoiding costs required to expand existing surveys to collect the information directly

• Reducing respondent burden by limiting the number of required resources to just the owners of the required data

The LEHD program is a member of a partnership between the US Census Bureau and the Labor Market Information (LMI) agencies from 49 states, the District of Columbia, and the territories of Puerto Rico and the Virgin Islands. This partnership supports the development, promotion, and distribution of the following data products:

• QWI Public Use—The flagship data product of the LEHD program is the QWI Public Use which provides 32 statistical indicators on employment, job creation and destruction, accessions (hires and recalls), and separations (e.g. exits and layoffs). These statistics are released for the following by-groups for all quarters for which data are available for each partner state:

○ County, metropolitan, and workforce investment area

○ Age, sex, race, and ethnicity categories

○ Detailed industry (i.e., type, firm age, firm size)

• LEHD Origin Destination Employment Statistics (LODES)—LODES data provide detailed spatial distributions of workers' employment and residential locations and the relation between the two at the Census Block level. LODES also provides characteristic detail on age, earnings, industry distributions, and local workforce indicators.

• Job-to-Job Flows (J2J)—Job-to-Job Flows (J2J) is a new set of statistics on worker reallocation in the United States constructed from the LEHD data. The initial release of national data distinguishes hires and separations associated with job change from hires and separations to non-employment. Future releases will be published at more detailed levels of aggregations, and will tabulate the origin and destination job characteristics of workers changing jobs.

These data products highlight state and local labor market dynamics that cannot be learned from other statistical sources and are therefore used in many different arenas. For example, the QWI can be used as local-labor-market controls in regression analysis; to identify long-term trends; to provide local context in performance evaluations, and a host of other applications.

II. Method of Collection

The collection of data occurs in accordance with the rules established by interagency agreements with the participating state partners or data sharing agreements that have been established within the Census Bureau. For state partners, their data is submitted directly to the Census secure servers where Personally Identifiable Information (PII) goes through a process to replace it with Protected Identification Keys (PIK). This “PIKing” process also applies to all other administrative data that are used by the LEHD program. For all other required administration data, they are transferred or referenced by the QWI production system. Data collection and processing also includes activities such as validation of data quality.

The data products created by the LEHD program are not generated by a traditional survey. Rather, all input data required is collected electronically as follows:

• State Unemployment Insurance (UI) and Quarterly Census of Employment and Wages (QCEW) are provided via secure File Transfer Protocol (FTP) where each state LMI agency sends these data directly to the Census Bureau. This transfer of data is governed by a Memorandum of Understandings (MOUs) with each state partner.

• Federal and Census Administrative data are acquired from other directorates or divisions within the Census Bureau where an internal agreement has been established for the use of the data.

• Public Use data sets are acquired from public source Web sites or public File Transfer Protocol (FTP) servers.

III. Data

Data that is used by the LEHD program is defined in the following table.

Table III-1—Input Data Sets for the LEHD Program
File | Source | Delivery schedule | Number of respondents
American Housing Survey (AHS) | Census Bureau | Yearly | 1
Business Dynamics Statistics (BDS) | Census Bureau | Quarterly | 1
Quarterly Census of Employment and Wages (QCEW) | Bureau of Labor Statistics | Quarterly | 1
Current Population Survey (CPS) | Census Bureau | Yearly | 1
Federal Workers | Office of Personnel Management | Quarterly | 1
Geographic Reference File | Census Bureau | Yearly | 1
Master Address File Extract | Census Bureau | Yearly | 1
New Business Register | Census Bureau | Yearly | 1
Geographic Database | Pitney Bowes Corporation | Quarterly | 1
Composite Person Record | Census Bureau | Yearly | 1
Master Address File Auxiliary Reference File | Census Bureau | Yearly | 1
Residence Candidate File | Census Bureau | Yearly | 1
Survey of Income and Program Participation | Census Bureau | Yearly | 1
Topologically Integrated Geographic Encoding and Referencing | Census Bureau | Yearly | 1
Unemployment Insurance Wage File | State Partners | Quarterly | 52
Quarterly Census of Employment and Wages (ES-202) | State Partners | Quarterly | 52
WIB Definitions files | State Partners | Acquired as needed | 52

OMB Control Number: 0607-XXXX.

Form Number(s): Not applicable as survey forms are not required to collect this data.

Type of Review: Regular submission as defined in Table III-1.

Affected Public: 0.

Estimated Number of Respondents: As defined in Table III-1.

Estimated Time per Response: No more than 4 hours required to identify and send/post required data sets.

Estimated Total Annual Burden Hours: Approximately 1964 hours.

Estimated Total Annual Cost to Public: Census Bureau collection of this data imposes no such costs to the respondents.

Respondent's Obligation: Voluntary.

Legal Authority: The authority to conduct the LEHD program is 13 U.S.C. Section 6. Of course, confidentiality is assured by 13 U.S.C. Section 9.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
PRA Departmental Lead, Office of the Chief Information Officer.

[FR Doc. 2016-29395 Filed 12-7-16; 8:45 am]

BILLING CODE 3510-07-P